FEDERAL COMMUNICATIONS COMMISSION

Deletion of Items From Sunshine Act Meeting

July 31, 2017.

The following agenda item has been adopted by the Commission, and deleted from the list of items scheduled for consideration at the Thursday, August 3, 2017, Open Meeting and previously listed in the Commission's Notice of July 27, 2017.

6 | INTERNATIONAL | Title: Implementation of section 25.281(b) Transmitter Identification Requirements for Video Uplink Transmissions (IB Docket No. 12-267).
|  | Summary: The Commission will consider a Memorandum Opinion and Order that waives the requirement that satellite news trucks, and other temporary-fixed satellite earth stations transmitting digital video, comply with the Digital Video Broadcasting-Carrier Identification (DVB-CID) standard if the earth station uses a modulator that cannot meet the DVB-CID standard through a software upgrade.

Federal Communications Commission.
Marlene H. Dortch,
Secretary.

[FR Doc. 2017-16849 Filed 8-7-17; 11:15 am]

BILLING CODE 6712-01-P